DEPARTMENT OF HEALTH AND HUMAN SERVICES

Announcement of Establishment of the Secretary's Advisory Committee on National Health Promotion and Disease Prevention Objectives for 2030 and Solicitation of Nominations for Membership

AGENCY: Office of Disease Prevention and Health Promotion, Office of the Assistant Secretary for Health, Office of the Secretary, U.S. Department of Health and Human Services.

ACTION: Notice.

Authority: 42 U.S.C. 217a. The Secretary's Advisory Committee on National Health Promotion and Disease Prevention Objectives for 2030 is governed by provisions of the Federal Advisory Committee Act (FACA), Public Law 92-463, as amended (5 U.S.C., App.), which sets forth standards for the formation and use of federal advisory committees.

SUMMARY: The U.S. Department of Health and Human Services (HHS) announces the establishment of the Secretary's Advisory Committee on National Health Promotion and Disease Prevention Objectives for 2030 (Committee) and invites nominations for membership.

DATES: Nominations for membership to the Committee must be submitted by 6:00 p.m. ET on April 18, 2016.

ADDRESSES: Nominations should be submitted by email to HP2030@hhs.gov. Alternatively, nominations may also be sent to the following address: Emmeline Ochiai; U.S. Department of Health and Human Services, Office of Disease Prevention and Health Promotion; 1101 Wootton Parkway, Suite LL-100; Rockville, MD 20852; Email: HP2030@hhs.gov.

FOR FURTHER INFORMATION CONTACT: Designated Program Official, Emmeline Ochiai; U.S. Department of Health and Human Services, Office of Disease Prevention and Health Promotion;1101 Wootton Parkway, Suite LL-100; Rockville, MD 20852; Email: HP2030@hhs.gov. Additional information is available at www.healthypeople.gov.

SUPPLEMENTARY INFORMATION: Each decade since 1979, HHS has published a comprehensive set of national public health objectives. Known as Healthy People, this initiative has been grounded in the notion that setting science-based, measurable objectives and monitoring progress can motivate action. As HHS prepares to produce objectives for the next decade, it seeks the assistance of a federal advisory committee to help ensure that those objectives are salient and science-based. The Committee will provide relevant and objective advice through an open process that fosters the cooperation and commitment from both the public and private sectors.

The Committee will be established to provide independent advice based on current scientific evidence for use by the HHS Secretary (the Secretary) or her designee in the development of Healthy People 2030. The Committee will advise the Secretary on HHS' approach for Healthy People 2030. Framed around health determinants and risk factors, this approach will generate a focused set of objectives that address high-impact public health challenges. The Committee will perform the single, time-limited task of providing advice regarding creating Healthy People 2030. The Committee will advise the Secretary on the Healthy People 2030 mission statement, vision statement, framework, and organizational structure. The Committee will provide advice on HHS' selection criteria for identifying a focused set of measurable, nationally representative objectives. The selection criteria will assist the Secretary in defining the objectives that represent the most critical public health issues that are high-impact priorities supported by current, national data sets.

The Committee will meet, at a minimum, one time per year. It is expected to begin meeting in fall of 2016 and to meet approximately four times per year during the course of its operation. Pursuant to FACA, meetings will be open to the public except as determined otherwise by the Secretary or her designee in keeping with all applicable laws.

Individuals selected for appointment to the Committee will be invited to serve as members until the charter expires or the Committee accomplishes its mission. Unless renewed, the charter will expire two years from the date it is established. The Committee will operate until its report is delivered to the Secretary or the charter expires, whichever comes first.

Prospective members of the Committee should be nationally known experts in the fields of disease prevention and health promotion. The membership may include former Assistant Secretaries for Health. Expertise is sought in specific specialty areas such as biostatistics, business, epidemiology, health communications, health economics, health information technology, health policy, health sciences, health systems, international health, outcomes research, public health law, social determinants of health, special populations, and state and local public health and from a variety of public, private, philanthropic, and academic settings. Individuals will be selected to serve as Committee members based upon their qualifications, level of expertise and knowledge, and ability to contribute to the work to be performed by the Committee. Individuals will not be appointed to serve as members of the Committee to represent the viewpoints of any specific group. Rather members will be selected to represent balanced viewpoints of the current scientific evidence sought by the Secretary to meet the Committee's charge.

Nominations: HHS will consider nominations, including self-nominations, for Committee membership of individuals qualified to carry out the above-mentioned duties. The following information should be included in the package of materials submitted for each individual being nominated for consideration: (1) The name, address, daytime telephone number, and email address of the nominator (if applicable), and the individual being nominated; (2) a letter of nomination that clearly states the name and affiliation of the nominee, the basis for the nomination (i.e., specific attributes which qualify the nominee for service in this capacity), and a statement from the nominee that the nominee is willing to serve as a member of the Committee; and (3) a current copy of the nominee's curriculum vitae (CV) no more than 10 pages in length. Inclusion of the following is requested in the CV: (1) Current and/or past grant awards; (2) publications showing both breadth and experience in areas of specialization; (3) paid and non-paid board and advisory appointments; (4) education and occupational history; and (5) an attestation that the submitted information is accurate and complete. All nominations must include the required information. Incomplete nominations will not be processed for consideration. Federal employees should not be nominated for appointment to this Committee.

Equal opportunity practices regarding membership appointments to the Committee will be aligned with HHS policies. When possible, every effort will be made to ensure that the Committee is a diverse group of individuals with representation from various academic institutions, disability status, ethnic identities, genders, geographic areas, and racial groups.

All appointed members of the Committee will serve as special government employees. As such, they are subject to the ethical standards of conduct for federal employees. Upon entering the position and annually throughout the term of appointment, members of the Committee will be required to complete and submit a report of their financial holdings, consultancies, and research grants and/or contracts. The purpose of this report is to determine if the individual has any interests and/or activities that may conflict with performance of his or her official duties as a member of the Committee. Committee members are entitled to receive reimbursement for travel and per diem expenses incurred for conducting official business in accordance with federal standard travel regulations. Committee members are not entitled to receive any other compensation for the services they perform.

Dated: March 9, 2016.
Don Wright,
Deputy Assistant Secretary for Health, (Disease Prevention and Health Promotion).

[FR Doc. 2016-06016 Filed 3-16-16; 8:45 am]

BILLING CODE 4150-28-P